DEPARTMENT OF LABOR

Proposed Information Collection Request for National Agricultural Workers Survey; Comment Request

AGENCY: Employment and Training Administration.

ACTION: Notice.

SUMMARY: The Department of Labor, as part of its continuing effort to reduce paperwork and respondent burden, conducts a preclearance consultation program to provide the general public and Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed three-year continuation of the National Agricultural Workers Survey with revisions.

A copy of the proposed information collection request can be obtained by contacting the office listed below in the addressee section of this notice or by accessing: http://www.doleta.gov/OMBCN/1205-0453.cfm.

DATES: Written comments must be submitted to the office listed in the addressee's section below on or before November 5, 2007.

ADDRESSES: Submit written comments to the Employment and Training Administration, Office of Policy Development and Research, 200 Constitution Avenue, NW., Room N5641, Washington, DC 20210, Attention: Mr. Daniel Carroll. Telephone number: 202-693-2795 (this is not a toll-free number). Fax: 202-693-2766. E-mail: carroll.daniel.j@dol.gov.

SUPPLEMENTARY INFORMATION:

I. Background

The Department of Labor has been continually surveying hired farm workers since 1988 via the National Agricultural Workers Survey (NAWS). The survey's primary focus is to describe the employment, demographic, and health characteristics of hired crop farm workers. It is the only national-level data source for this information.

The NAWS provides an understanding of the manpower resources available to U.S. agriculture, and both public and private service programs use the data for planning, implementing, and evaluating farm worker programs.

The NAWS samples hired crop farm workers in three cycles each year to capture the seasonality of agricultural employment. Workers are randomly sampled at their work sites. During the initial contact, arrangements are made to interview the respondent at home or at another location of convenience to the respondent. Depending on the information needs and resources of the various federal agencies that use NAWS data, between 1,500 and 4,000 workers are interviewed each year.

The primary NAWS questionnaire routinely provides a standard set of information on the employment, demographic, and health characteristics of hired crop workers. When new information is required, Federal agencies add supplemental collection instruments to the NAWS.

Beginning with the October 2007 interview cycle, the Employment and Training Administration, in partnership with the Centers for Disease Control and Prevention, National Institute for Occupational Safety and Health, proposes to collect additional information on the occupational health of hired crop workers via the NAWS. The new information would come from administering new questions on occupational mental health.

The purpose of this notice is to solicit comments regarding: (1) The currently approved versions of the primary questionnaire and the agricultural occupational injury supplement; and (2) the addition of the occupational mental health questions. The primary questionnaire, injury supplement, and proposed occupational mental health questions are discussed below.

Primary NAWS Questionnaire

The questionnaire is administered to hired crop agricultural workers 14 years old and older. It contains a household grid, where the education level and migration history of the respondent and each member of the respondent's household are recorded, and an employment grid, where a full year of respondent's employment is detailed. Information on income, assets, legal status, and use of contribution- and needs-based programs is also elicited.

In the employment grid, interviewers record the task and crop for agricultural jobs, type and amount of non-agricultural employment, periods of unemployment, and time spent outside the United States. For the respondent's current agricultural job, information on how the job was obtained, wages and payment method (piece or hourly), employment type (direct hire or labor-contracted) and duration (year-round or seasonal), benefits, availability of water and sanitation, pesticide training, transportation, and housing arrangements is recorded.

Demographic and health information collected via the primary questionnaire includes age, gender, place of birth, marital status, languages spoken, English language ability, participation in education and employment training programs, health history (lifetime), musculoskeletal problems (last 12 months), and quality of and access to health care.

The Agricultural Occupational Injury Supplement

This CDC/NIOSH-sponsored supplement is administered to all NAWS respondents who had a qualifying agricultural occupational injury in the United States in the 12-month period before the date of interview. For each qualifying injury, the respondent is asked how, when and where the injury occurred, the body part(s) injured, where medical treatment was received, how the treatment was paid for, and the number of days the respondent couldn't work or worked at a reduced activity level.

Proposed Occupational Mental Health Supplement

CDC/NIOSH is proposing to add, for one year only, an occupational mental health supplement. The supplement will include four questions each concerning decisions latitude and work limitations, two questions each concerning job demands and job insecurity, and one question each concerning perceived general health and family concerns. In addition, the Center for Epidemiologic Studies Depression Scale (CES-D) Short Form 10 (SF-10), which contains 10 items, would be administered.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriated automated, electronic, mechanical, or other technological collection techniques or other forms of information technology, e.g., permitting electronic submissions of responses.

III. Current Actions

Type of Review: Revision of Approved Collection.

Agency: Employment and Training Administration.

Title: National Agricultural Workers Survey.

OMB Number: 1205-0453.

Affected Public: Individuals, Farms.

Total Respondents: 5,344.

Frequency: Annual.

Total Responses: 5,344.

Average Time per Response: 48.1 minutes.

Estimated Total Burden Hours: 4,288 (see Table 1, below).

Table 1.—Estimated Burden Hours Associated With the FY 2008 NAWS
Who will be interviewed? | Survey instrument | Respondents per year | Average time per respondent | Total hours
Farm Workers | Primary Questionnaire, including occupational mental health questions | 4,000 | 57 minutes | 3,800
Farm Workers with a qualifying injury | Occupational Injury Supplement | 160* | 15 minutes | 40
Employers | Point of Contact Only | 1,344 | 20 minutes | 448
Total |  | 5,344 |  | 4,288
*Not included in total respondents; they are a subset of the Primary Questionnaire respondents.

Total Burden Cost (operating/maintaining): $0.

Comments submitted in response to this comment request will be summarized and/or included in the request for Office of Management and Budget approval of the information collection request; they will also become a matter of public record.

Dated: August 29, 2007.
Emily Stover DeRocco,
Assistant Secretary, Employment and Training Administration.

[FR Doc. E7-17498 Filed 9-4-07; 8:45 am]

BILLING CODE 4510-FM-P